DEPARTMENT OF HEALTH AND HUMAN SERVICES

Centers for Medicare & Medicaid Services

[CMS-1534-CN]

42 CFR Part 413

RIN 0938-AP11

Medicare Program; Prospective Payment System and Consolidated Billing for Skilled Nursing Facilities; Correction

AGENCY: Centers for Medicare & Medicaid Services (CMS), HHS.

ACTION: Final rule; correction.

SUMMARY: This document corrects technical errors that appeared in the August 8, 2008 Federal Register entitled, “Medicare Program; Prospective Payment System and Consolidated Billing for Skilled Nursing Facilities for FY 2009.”

DATES: Effective Date: This correction is effective October 1, 2008.

FOR FURTHER INFORMATION CONTACT: Bill Ullman, (410) 786-5667.

SUPPLEMENTARY INFORMATION:

I. Background

In FR Doc. E8-17948 of August 8, 2008 (73 FR 46416), there were two technical errors that this notice serves to identify and correct. The corrections in this correction notice are effective as if they had been included in the document published on August 8, 2008. Accordingly, the corrections are effective October 1, 2008.

II. Summary of Errors

On page 46430 of the August 8, 2008 final rule, we are correcting the title of Table 10. This table illustrates the skilled nursing facility (SNF) prospective payment system (PPS) payment rate computations for a hypothetical “XYZ” SNF located in Cedar Rapids, IA. In the table's title, the wage index value for Cedar Rapids, IA is incorrectly identified as 0.8924. Accordingly, in section III of this document (“Correction of Errors”), we are correcting the wage index value in the title of Table 10 to reflect the correct wage index value of 0.8919. We note that the entries for this value that appear in the “wage index” column of the table itself, as well as the corresponding entry for CBSA 16300 in Table 8 (“FY 2009 Wage Index for Urban Areas Based on CBSA Labor Market Areas,” which appeared as an addendum to the August 8, 2008 final rule), both correctly reflect this value as 0.8919.

In addition, in the addendum to the August 8, 2008 final rule, we are revising an entry in Table 9 (“FY 2009 Wage Index Based on CBSA Labor Market Areas for Rural Areas”) in order to correct a technical error made to the wage data for one inpatient hospital provider in rural New Hampshire. We are revising the wage index value displayed in Table 9 for rural New Hampshire from “1.0182” to the corrected value of “1.0219”. Since this revision involves only a single entry in Table 9, we are not republishing the table in its entirety in this notice; however, we note that the corrected version of this table is available on the SNF PPS Web site, which can be accessed online at http://www.cms.hhs.gov/SNFPPS/.

III. Correction of Errors

In FR Doc. E8-17948 (73 FR 46416), make the following corrections:

1. On page 46430, in Table 10, the wage index value “0.8924” displayed in the title is revised to read “0.8919”.

2. On page 46462, in Table 9, in the wage index column for New Hampshire, State code 30, the wage index value “1.0182” is revised to read “1.0219”.

IV. Waiver of Proposed Rulemaking and Delayed Effective Date

We ordinarily publish a proposed rule in the Federal Register to provide a period for public comment before the provisions of a rule such as this take effect in accordance with section 553(b) of the Administrative Procedure Act (APA) (5 U.S.C. 553(b)). We also ordinarily provide a 30-day delay in the effective date of the provisions of a notice in accordance with section 553(d) of the APA (5 U.S.C. 553(d)). However, we can waive both the notice and comment procedure and the 30-day delay in effective date if the Secretary finds, for good cause, that a notice and comment process is impracticable, unnecessary, or contrary to the public interest, and incorporates a statement of the finding and the reasons for it in the notice.

We find for good cause that it is unnecessary to undertake notice and comment rulemaking because this notice merely provides technical corrections to the regulations. We are not making substantive changes to our payment methodologies or policies, but rather, are simply implementing correctly the payment methodologies and policies that we previously proposed, received comment on, and subsequently finalized. The public has already had the opportunity to comment on these payment methodologies and policies, and this correction notice is intended solely to ensure that the FY 2009 SNF PPS final rule accurately reflects them. Therefore, we believe that undertaking further notice and comment procedures to incorporate these corrections into the final rule is unnecessary and contrary to the public interest.

Further, we believe a delayed effective date is unnecessary because this correction notice merely corrects inadvertent technical errors. The changes noted above do not make any substantive changes to the SNF PPS payment methodologies or policies. Moreover, we regard imposing a delay in the effective date as being contrary to the public interest. We believe that it is in the public interest for providers to receive appropriate SNF PPS payments in as timely a manner as possible and to ensure that the FY 2009 SNF PPS final rule accurately reflects our payment methodologies, payment rates, and policies. Therefore, we find good cause to waive notice and comment procedures, as well as the 30-day delay in effective date.

(Catalog of Federal Domestic Assistance Program No. 93.773, Medicare—Hospital Insurance; and Program No. 93.774, Medicare—Supplementary Medical Insurance Program)

Dated: September 29, 2008.
Ashley Files Flory,
Deputy Executive Secretary to the Department.

[FR Doc. E8-23253 Filed 9-30-08; 8:45 am]

BILLING CODE 4120-01-P